DEPARTMENT OF VETERANS AFFAIRS

Advisory Committee on United States Outlying Areas and Freely Associated States, Notice of Meeting

The Department of Veterans Affairs (VA) gives notice under the Federal Advisory Committee Act, 5 U.S.C. ch. 10., that the Advisory Committee on United States Outlying Areas and Freely Associated States will hold a virtual meeting. The meeting will begin and end as follows:

Date | Time | Location | Open session
February 11, 2025 | 6 p.m.-7 p.m. eastern standard time | Virtual via Microsoft Teams; see meeting link below | Yes.

The meeting is open to the public and will be available virtually via Microsoft Teams.

The purpose of the Committee is to advise the Secretary of Veterans Affairs on covered Veterans. The term “covered Veteran” is defined as a Veteran residing in American Samoa, Guam, Puerto Rico, the Commonwealth of the Northern Mariana Islands, the Virgin Islands of the United States, the Federated States of Micronesia, the Republic of the Marshall Islands, and the Republic of Palau. The Committee advises on improving VA programs and services to serve covered Veterans better.

The meeting agenda will include the Committee's review and a vote to submit its final draft report, with the Committee's recommendations, to the Secretary of Veterans Affairs. Limited time will also be allocated to receive comments from the public.

Public members wishing to provide comments or join the meeting, please use the following Microsoft Teams link: https://teams.microsoft.com/l/meetup-join/19%3ameeting_OTdlNGUzYTAtYzI1Mi00Nzk5LWJlZDctODRmODA0NjMyZWE2%40thread.v2/0?context=%7b%22Tid%22%3a%22e95f1b23-abaf-45ee-821d-b7ab251ab3bf%22%2c%22Oid%22%3a%2258df1cb4-ec74-4431-9191-301a3dd59ff8%22%7d.

Microsoft Teams:

Meeting ID: 214 928 356 173.

Passcode: me2Sz2Mn.

Dial in by phone:

+1 872-701-0185, 789755609# United States, Chicago.

Phone conference ID: 789 755 609#.

The Committee will accept written comments from interested parties on items outlined in the meeting agenda or other issues related to covered Veterans. Interested parties may submit written comments to Mr. Bernard Johnson, Designated Federal Officer, via email at bernard.johnson2@va.gov or Mr. Ferdinand Torres-Leon, Alternate Designated Federal Officer, at Ferdinand.Torres-leon@va.gov no later than February 4, 2025. Any member of the public seeking additional information should contact Mr. Johnson at the email address noted above.

Dated: January 13, 2025.
Jelessa M. Burney,
Federal Advisory Committee Management Officer.

[FR Doc. 2025-01088 Filed 1-16-25; 8:45 am]

BILLING CODE 8320-01-P